DEPARTMENT OF EDUCATION

[CFDA No. 84.336]

Teacher Quality Enhancement Grants Program; Notice Inviting Applications for New Awards for Fiscal Year (FY) 2000

Purpose of Program: The program provides grants to States and to partnerships to promote improvements in the quality of new teachers with the ultimate goal of increasing student achievement in the nation's pre-K-12 classrooms. For FY 2000, a new competition will be conducted under the State Grants Program (State Program) and the Partnership Program for Improving Teacher Education (Partnership Program). The purpose of the State Program is to improve the quality of a State's teaching force by supporting the implementation of comprehensive statewide reform activities in areas such as teacher licensing and certification, accountability for high-quality teacher preparation, and recruitment. The purpose of the Partnership Program is to promote significant improvements in teacher education by strengthening the vital role of K-12 educators in the design and implementation of effective teacher education programs, and by increasing collaboration among these practitioners and departments of arts and sciences and schools of education.

Eligible Applicants: State Grants (including the District of Columbia, Puerto Rico and the insular areas)—States that did not receive an FY 1999 grant under the State Program.

Partnership Grants—Partnerships comprised, at a minimum, of an institution of higher education with an eligible teacher preparation program, a school of arts and sciences, and a high-need local educational agency (LEA). These terms are defined in section 203 of the Higher Education Act and in regulations for this program in 34 CFR 611.1. Partnerships that received an FY 1999 grant under this program are not eligible for this competition.

Applications Available: April 11, 2000.

Deadline for Transmittal of Applications: State Grants—June 12, 2000.

Partnership Grants—Pre-applications: May 26, 2000; Final Applications: August 15, 2000.

Deadline for Intergovernmental Review: August 9, 2000.

Available Funds: State Grants—$7,900,000; Partnership Grants—$6,300,000.

Estimated Range of Awards: State Grants—$1,000,000-$2,000,000 per year; Partnership Grants—$1,000,000-$2,000,000 per year.

Estimated Average Size of Awards: State Grants—$1.5 million per year; Partnership Grants—$1.5 million per year.

Estimated Number of Awards: State Grants—6; Partnership Grants—5.

Note: The Department is not bound by any estimates in this notice.

Project Period: State Grants—up to 36 months; Partnership Grants—up to 60 months.

Page Limits:

Note: The application narrative is where you, the applicant, address the selection criteria reviewers use in evaluating your pre-application or application.

Pre-applications for Partnership Grants—If you are submitting a pre-application for a Partnership grant, you must limit your pre-application narrative to the equivalent of no more than 10 pages and your estimated budget information to the equivalent of no more than three pages.

State Grants and Final Applications for Partnership Grants—If you are submitting an application for a State grant or a final application for a Partnership grant, you must limit your narrative to the equivalent of no more than 50 pages and your accompanying work plan to the equivalent of no more than 10 pages. Submit the work plan as an appendix. In addition, you must limit your budget narrative to the equivalent of no more than 10 pages and your evaluation plan to the equivalent of no more than five pages.

For the pre-application or application narrative, work plan, budget narrative, and evaluation plan, the following standards apply:

• A page is 8.5″ x 11″, on one side only, with 1″ margins at the top, bottom, and both sides.

• Double space (no more than three lines per vertical inch) all text, including titles, headings, quotations, references, and captions.

• Use a font that is either 12-point or larger or no smaller than 10 pitch (characters per inch).

• For tables, charts, or graphs also use a font that is either 12-point or larger or no smaller than 10 pitch.

Our reviewers will not read any of the specified sections of your application that

• Exceed the page limit if you apply these standards; or

• Exceed the equivalent of the page limit if you apply other standards.

Applicable Regulations: (a) The Education Department General Administrative Regulations (EDGAR) in 34 CFR parts 74, 75, 77, 79, 80, 82, 85, 86, 97, 98 and 99. (b) The regulations for this program in 34 CFR part 611, published in this edition of the Federal Register.

Pre-Application Technical Workshops: We will be conducting four regional technical assistance workshops to assist prospective applicants.

1. Tempe: April 13, 2000, 8:30 a.m. to 1:00 p.m., Arizona State University, Payne Bldg., Room 129, Tempe, Arizona (Registration: 8:30 to 9:00 a.m.) Contact Person: Kathy Langerman, (480) 965-3146 or klang@asu.edu

2. Boston: April 18, 2000, 8:30 a.m. to 1:00 p.m., Boston College, Lower Dining Hall, Heights Room, 140 Commonwealth Avenue, Chestnut Hill, Massachusetts (Registration: 8:30 to 9:00 a.m.) Contact Person: Pamela Herrup, (617) 552-0763 or herrup@bc.edu

3. Milwaukee: April 20, 2000, 8:30 a.m. to 1:00 p.m., University of Wisconsin-Milwaukee, University Center for Continuing Education (UCCE), 161 W. Wisconsin Avenue, Room 7970, Milwaukee, Wisconsin (Registration: 8:30 to 9:00 a.m.) Contact Person: Linda Post, (414) 229-4884 or lpost@uwm.edu

4. Miami: April 25, 2000, 8:30 a.m. to 1:00 p.m., University of Miami, University Center, Section A, Flamingo Ballroom, 1306 Stanford Drive, Coral Gables, Florida (Registration: 8:30 to 9:00 a.m.) Contact Person: Martha Kairuz (305) 284-5937 or mkairuz@umiami.ir.miami.edu

Any interested parties are invited to attend these workshops.

Assistance to Individuals with Disabilities at the Technical Assistance Workshops—The meeting sites are accessible to individuals with disabilities. The Department will provide a sign language interpreter at each of the scheduled workshops. An individual with a disability who will need an auxiliary aid or service other than an interpreter to participate in the meeting (e.g., assistive listening device, or materials in an alternate format) should notify the Department at least two weeks before the scheduled workshop date. Although we will attempt to meet a request received after this date, the requested auxiliary aid or service may not be available because of insufficient time to arrange it. Requests for assistance should be directed by contacting the Teacher Quality Program Office as directed in the FOR FURTHER INFORMATION CONTACT section. There is no pre-registration for these workshops. For additional workshop information, you may visit the Teacher Quality website at: http://www.ed.gov/offices/OPE/heatqp/index.html or contact the person designated as contact for each workshop site listed.

For Further Information or Applications: Brenda Shade, Teacher Quality Program, Office of Postsecondary Education, U.S. Department of Education, 1990 K Street NW, Room 6152, Washington, DC 20006-8525. Telephone Number: (202) 502-7773. The e-mail address for Ms. Shade is Brenda_Shade@ed.gov

The fax number is (202) 502-7699. Individuals who use a telecommunications device for the deaf (TDD) may call the Federal Information Relay Service (FIRS) at 1-800-877-8339.

Individuals with disabilities may obtain this document in an alternate format (e.g., Braille, large print, audiotape, or computer diskette) on request to the contact person listed under FOR FURTHER INFORMATION OR APPLICATIONS CONTACT section.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1021 et seq.

Dated: April 5, 2000.
Claudio R. Prieto,
Acting Assistant Secretary for Postsecondary Education.

[FR Doc. 00-8891 Filed 4-10-00; 8:45 am]

BILLING CODE 4000-01-U